DEPARTMENT OF ENERGY

Federal Energy Regulatory Commission

Combined Notice of Filings

Take notice that the Commission has received the following Natural Gas Pipeline Rate and Refund Report filings:

Filings Instituting Proceedings

Docket Numbers: RP12-158-000.

Applicants: Northwest Pipeline GP.

Description: NWP GT&C Section 21 and 29 (Interconnects—Mainline Path Alteration) to be effective 1/16/2012.

Filed Date: 11/17/11.

Accession Number: 20111117-5089.

Comments Due: 5 p.m. ET 11/29/11.

Docket Numbers: RP12-159-000.

Applicants: Algonquin Gas Transmission, LLC.

Description: Excelerate 2012-01-01 Negotiated Rate to be effective 1/1/2012.

Filed Date: 11/17/11.

Accession Number: 20111117-5104.

Comments Due: 5 p.m. ET 11/29/11.

Docket Numbers: RP12-160-000.

Applicants: Southeast Supply Header, LLC.

Description: Non-Conforming Agreement Addition to be effective 12/17/2011.

Filed Date: 11/17/11.

Accession Number: 20111117-5123.

Comments Due: 5 p.m. ET 11/29/11.

Docket Numbers: RP12-161-000.

Applicants: Texas Gas Transmission, LLC.

Description: Clean Up List of Non-conforming Agreements Filing to be effective 12/19/2011.

Filed Date: 11/18/11.

Accession Number: 20111118-5019.

Comments Due: 5 p.m. ET 11/30/11.

Docket Numbers: RP12-162-000.

Applicants: Gulf South Pipeline Company, LP.

Description: Clean Up List of Non-conforming Agreements Filing to be effective 12/19/2012.

Filed Date: 11/18/11.

Accession Number: 20111118-5020.

Comments Due: 5 p.m. ET 11/30/11.

Docket Numbers: RP12-163-000.

Applicants: KO Transmission Company.

Description: Reservation Charge Crediting Policy Filing to be effective 11/18/2011.

Filed Date: 11/18/11.

Accession Number: 20111118-5025.

Comments Due: 5 p.m. ET 11/30/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 18, 2011.
Nathaniel J. Davis, Sr.,
Deputy Secretary.

[FR Doc. 2011-30339 Filed 11-23-11; 8:45 am]

BILLING CODE 6717-01-P